COMMITTEE FOR PURCHASE FROM PEOPLE WHO ARE BLIND OR SEVERELY DISABLED

Procurement List Addition; Correction

In the document appearing on page 42901, FR Doc. 99-20291, in the issue of August 6, 1999, in the first column the Committee published a notice of addition to the Procurement List of, among other things, Skin Protectant, Plus, National Stock Number (NSN) 9999-00-NSH-0001. This NSN was later replaced by the NSNs 6505-01-474-7724, 6505-01-474-7707, and 6505-01-474-7343.

Unless limited in the notice, an addition to the Procurement List applies to the total Government requirement for the commodity noted. However, the Committee recently discovered that the addition of Skin Protectant, Plus was based on the requirement for the U.S. Postal Service, Central Florida District only. The addition notice is therefore amended to read:

Skin Protectant, Plus

6505-01-474-7724

6505-01-474-7707

6505-01-474-7343

(Requirement of U.S. Postal Service, Central Florida District only.)

Patrick T. Mooney,
Director, Pricing and Program Operations.

[FR Doc. 01-11303 Filed 5-2-01; 8:45 am]

BILLING CODE 6353-01-P